ENVIRONMENTAL PROTECTION AGENCY

[FRL-7878-2]

Meeting of the Mobile Sources Technical Review Subcommittee

AGENCY: Environmental Protection Agency (EPA).

ACTION: Notice of meeting.

SUMMARY: Pursuant to the Federal Advisory Committee Act, Public Law 92-463, notice is hereby given that the Mobile Sources Technical Review Subcommittee (MSTRS) will meet in March, 2005. This is an open meeting. The meeting will include updates on workgroup activities, and presentations about activities being conducted by EPA's Office of Transportation and Air Quality. The preliminary agenda for the meeting, as well as the minutes from the previous (October, 2004) meeting will be posted on the Subcommittee's Web site: http://www.epa.gov/air/caaac/mobile_sources.html. MSTRS listserver subscribers will receive notification when the agenda is available on the Subcommittee Web site. To subscribe to the MSTRS listserver, go to https://lists.epa.gov/read/all_forums/subscribe?name=mstrs. The site contains instructions and prompts for subscribing to the listserver service.

DATES: Wednesday, March 9, 2005 from 9 a.m. to 4 p.m. Registration begins at 8:30 a.m.

ADDRESSES: The meeting will be held at the Crowne Plaza Washington National Airport Hotel, 1489 Jefferson Davis Highway, Arlington, VA. 1-703-416-1600. The hotel is located one block from the Crystal City Metro station, and shuttle buses are available to and from Washington Reagan National Airport.

FOR FURTHER INFORMATION CONTACT: For technical information: Dr. L. Joseph Bachman, Designated Federal Officer, Transportation and Regional Programs Division, Mailcode 6406J, U.S. EPA, 1200 Pennsylvania Ave., NW., Washington, DC 20460; Ph: 202-343-9373; e-mail, bachman.joseph@epa.gov.

For logistical and administrative information: Ms. Angela Young, FACA Management Officer, U.S. EPA, Transportation and Regional Programs Division, Mailcode 6406J, U.S. EPA, 1200 Pennsylvania Ave., NW., Washington, DC 20460;

Background on the work of the Subcommittee is available at http://transaq.ce.gatech.edu/epatac/, and more current information is found at: http://www.epa.gov/air/caaac/mobile_sources.html.

Individuals or organizations wishing to provide comments to the Subcommittee should submit them to Dr. Bachman at the address above by March, 7, 2005. The Subcommittee expects that public statements presented at its meetings will not be repetitive of previously submitted oral or written statements.

SUPPLEMENTARY INFORMATION: During the meeting, the Subcommittee may also hear progress reports from some of its workgroups as well as updates and announcements on activities of general interest to attendees.

Dated: February 22, 2005.
Margo Tsirigotis Oge,
Director, Office of Transportation and Air Quality.

[FR Doc. 05-3795 Filed 2-25-05; 8:45 am]

BILLING CODE 6560-50-P